DEPARTMENT OF COMMERCE

National Oceanic and Atmospheric Administration

[RTID 0648-XD323]

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Subcommittee of the Scientific and Statistical Committee (SSC) will hold a meeting to review rebuilding analyses for quillback rockfish in California and any remaining 2023 stock assessment review requests from the September 2023 Council meeting. This meeting is open to the public.

DATES: The meeting will be held Monday, September 25, 2023 from 1 p.m. until business for the day has been completed, and will continue through Friday, September 29, 2023, from 8:30 a.m. until 5:30 p.m. (Pacific Daylight Time) or when business for the day has been completed.

ADDRESSES: The SSC Groundfish Subcommittee meeting is tentatively scheduled to be held in person with a web broadcast at the Pacific Fishery Management Council office, Large Conference Room, 7700 NE Ambassador Place, Suite 101, Portland, OR 97220. The meeting may be held online only based on the complexity of the agenda and in the event of Federal travel restrictions. An opportunity for remote public comment will be provided under either meeting format.

Specific meeting information, materials, and instructions for how to connect to the meeting remotely will be provided in the meeting announcement on the Pacific Council's website (see www.pcouncil.org). Please contact Kris Kleinschmidt (kris.kleinschmidt@noaa.gov) or (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414, email: marlene.bellman@noaa.gov.

SUPPLEMENTARY INFORMATION: The SSC's Groundfish Subcommittee will review any further analyses for 2023 stock assessments as requested by the Pacific Council at their September 2023 meeting. The SSC's Groundfish Subcommittee will also review new rebuilding analyses for quillback rockfish in California. This process follows the procedures outlined in the Pacific Council's Terms of Reference for the Groundfish Stock Assessment Review Process for 2023-2024 (which can be found at https://www.pcouncil.org/documents/2022/06/terms-of-reference-for-the-groundfish-stock-assessment-review-process-for-2023-2024-june-2022.pdf/). The Groundfish Subcommittee will prepare their recommendations for SSC and Pacific Council consideration at their November 2023 meetings.

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Kris Kleinschmidt (kris.kleinschmidt@noaa.gov; (503) 820-2412) at least 10 days prior to the meeting date.

Authority: 16 U.S.C. 1801 et seq.

Dated: September 1, 2023.
Rey Israel Marquez,
Acting Deputy Director, Office of Sustainable Fisheries, National Marine Fisheries Service.

[FR Doc. 2023-19315 Filed 9-6-23; 8:45 am]

BILLING CODE 3510-22-P